DEPARTMENT OF TRANSPORTATION

Federal Railroad Administration

Notice of Application for Approval of Discontinuance or Modification of a Railroad Signal System or Relief From Requirements

Pursuant to Title 49 Code of Federal Regulations (CFR) part 235 and 49 U.S.C. 20502(a), the following railroads have petitioned the Federal Railroad Administration (FRA) seeking approval for the discontinuance or modification of the signal system or relief from the requirements of 49 CFR part 236 as detailed below.

[Docket Number FRA-2001-10656]

Applicant: Union Pacific Railroad Company, Mr. Phil M. Abaray, Chief Engineer—Signals, 1416 Dodge Street, Room 1000, Omaha, Nebraska 68179-1000.

Union Pacific Railroad Company seeks approval of the proposed modification of the traffic control system, on three main tracks and two yard tracks, between mileposts 0.5 and 2.0 on the Omaha Subdivision, at Council Bluffs, Iowa, associated with track rearrangement and changes in train operation. The proposed changes consist of the following:

1. At CPB-000, milepost 0.5, removal of the power-operated crossover and controlled signals 662, 664, 670, and 672;

2. At CPB-001, milepost 1.0, installation of one power-operated switch, relocation of one power-operated switch, conversion of three power-operated switches to hand operation, and removal of controlled signals 606, 608, 610, 612, 614, 616, 618, 636, 640, 644, 646, 648, and 650;

3. At milepost 1.4, removal of automatic signals 13-5 and 14-5 on yard track 4; and

4. At CPB-002, milepost 2.0, revision of signal 512 to provide for a lunar aspect into non signaled yard tracks 4 and 5.

The reason given for the proposed changes is that track revisions and changes in operating practices make the signals redundant, because many of the signals were originally installed to protect switches that no longer exist. In addition dispatching duties and train operations will be simplified, and removal of the signals from yard tracks 4 and 5 will facilitate switching operations.

Any interested party desiring to protest the granting of an application shall set forth specifically the grounds upon which the protest is made, and contain a concise statement of the interest of the party in the proceeding. Additionally, one copy of the protest shall be furnished to the applicant at the address listed above.

All communications concerning this proceeding should be identified by the docket number and must be submitted to the Docket Clerk, DOT Central Docket Management Facility, Room PI-401, Washington, DC 20590-0001. Communications received within 45 days of the date of this notice will be considered by the FRA before final action is taken. Comments received after that date will be considered as far as practicable. All written communications concerning these proceedings are available for examination during regular business hours (9:00 a.m.-5:00 p.m.) at DOT Central Docket Management Facility, Room PI-401 (Plaza Level), 400 Seventh Street, SW., Washington, DC 20590-0001. All documents in the public docket are also available for inspection and copying on the internet at the docket facility's Web site at http://dms.dot.gov.

FRA expects to be able to determine these matters without an oral hearing. However, if a specific request for an oral hearing is accompanied by a showing that the party is unable to adequately present his or her position by written statements, an application may be set for public hearing.

Issued in Washington, DC on October 23, 2001.
Grady C. Cothen, Jr.,
Deputy Associate Administrator, for Safety Standards and Program Development.

[FR Doc. 01-27142 Filed 10-26-01; 8:45 am]

BILLING CODE 4910-06-P